SMALL BUSINESS ADMINISTRATION

[Disaster Declaration #13317 and #13318]

Alabama Disaster Number AL-00044

AGENCY: U.S. Small Business Administration.

ACTION: Amendment 1.

SUMMARY: This is an amendment of the Presidential declaration of a major disaster for Public Assistance Only for the State of Alabama (FEMA-4082-DR), dated 09/21/2012.

Incident: Hurricane Isaac.

Incident Period: 08/26/2012 through 09/05/2012.

Effective Date: 10/03/2012.

Physical Loan Application Deadline Date: 11/20/2012.

Economic Injury (EIDL) Loan Application Deadline Date: 06/21/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Alabama, dated 09/21/2012, is hereby amended to include the following areas as adversely affected by the disaster.

Primary Counties:Covington, Dallas, Geneva, Monroe, Perry.

All other information in the original declaration remains unchanged.

(Catalog of Federal Domestic Assistance Numbers 59002 and 59008)

Joseph P. Loddo,
Acting Associate Administrator for Disaster Assistance.

[FR Doc. 2012-25314 Filed 10-15-12; 8:45 am]

BILLING CODE 8025-01-P